DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for the following projects: (1) Fredericksburg Road Bus Rapid Transit, VIA Metropolitan Transit, San Antonio, TX; (2) Draper Transit Corridor Project, Utah Transit Authority, Salt Lake County, Utah; (3) Wyandanch Intermodal Transit Facility, Town of Babylon, Wyandanch, NY; (4) Fayetteville Multi-Modal Bus Transfer Center, The City of Fayetteville, Fayetteville, NC; (5) Second Avenue Subway Extension, Metropolitan Transportation Authority, New York, NY; and (6) East Side Access, Metropolitan Transportation Authority, New York, NY. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation projects will be barred unless the claim is filed on or before May 23, 2011.

FOR FURTHER INFORMATION CONTACT: Katie Grasty, Environmental Protection Specialist, Office of Planning and Environment, 202-366-9139, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with each project to comply with the National Environmental Policy Act (NEPA) and in other documents in the FTA administrative record for the project. Interested parties may contact either the project sponsor or the relevant FTA Regional Office for more information on these projects. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. For example, this notice does not extend the limitation on claims announced for earlier decisions on the Second Avenue Subway or the East Side Access project.

The projects and actions that are the subject of this notice are:

1. Project name and location: Fredericksburg Road BRT, San Antonio, TX. Project sponsor: VIA Metropolitan Transit. Project description: This project includes the construction of eight BRT stations and two transit centers in southwest San Antonio. The BRT system would operate from the University of Texas at San Antonio main campus through downtown San Antonio and will operate in mixed flow traffic along a nine-mile corridor. Final agency actions: Section 106 finding of no adverse effect; project-level air quality conformity determination; Section 4(f) no use determination; and a Finding of No Significant Impact (FONSI) dated August 2010. Supporting documentation: Environmental Assessment dated August 2010.

2. Project name and location: Draper Transit Corridor Project, Salt Lake County, Utah. Project sponsor: Utah Transit Authority (UTA). Project description: The project consists of a 3.8-mile light rail transit extension operating from the existing 10000 South (Sandy Civic Center) Station of the Transit Express (TRAX) line along the UTA owned right-of-way of the former Union Pacific Provo Industrial Lead Railroad to Draper Town Center near 12400 South (Pioneer Road) in Draper with three new passenger stations. Final agency actions: Section 4(f) de minimis impact determination; a Section 106 Memorandum of Agreement; and a Record of Decision dated September 2010. Supporting documentation: Final Environmental Impact Statement dated July 2010.

3. Project name and location: Wyandanch Intermodal Transit Facility, Wyandanch, NY. Project sponsor: Town of Babylon. Project description: The project includes a new parking garage, public open space, new and relocated bus stops, a drop-off and pick up area, a new street network, off-site roadway and streetscape improvement, drainage improvements, and wayfinding elements. The project is located on a 13.9-acre site. Final agency actions: Section 106 finding of no adverse effect and a FONSI signed September 2010. Supporting documentation: Environmental Assessment dated July 2010.

4. Project name and location: Fayetteville Multi-Modal Bus Transfer Center, Fayetteville, NC. Project sponsor: The City of Fayetteville. Project description: The multi-modal center will include a two-story building, bus bay platforms, taxi stands and landscaped areas. It will be constructed on a 2.55-acre downtown city block. Final agency actions: Section 106 finding of no adverse effect; no use of Section 4(f) properties; and a revised FONSI signed October 2010. Supporting documentation: Environmental Assessment dated April 2010.

5. Project name and location: Second Avenue Subway, New York, NY. Project sponsor: Metropolitan Transportation Authority. Project description: The Second Avenue Subway project is the phased construction of a new 8.5-mile subway line under Second Avenue in Manhattan from 125th Street to Hanover Square in Lower Manhattan. It includes sixteen new stations which will be accessible by persons with disabilities. FTA has agreed to funding for the first phase of the project which will run between 105th Street and 62nd Street and will connect to the existing F line at 63rd Street, so that Phase 1 can be operated before the other phases are built. Various changes to Phase 1 have been evaluated in six technical memorandums.

Final agency actions: FTA determination in each case that neither a Supplemental Environmental Impact Statement nor a Supplemental Environmental Assessment is necessary. Supporting documentation: Technical Memorandum No. 1 assessing design changes to tunnels south of 70th Street and modifications to three stations, dated January 2007; Technical Memorandum No. 2 assessing design change to 96th Street station ancillary facility, dated April 2007; Technical Memorandum No. 3 assessing design change to 63rd Street station ventilation system and the location of station entrances, dated July 2007; Technical Memorandum No. 4 assessing design change to reduce the number of tracks near 72nd Street and to lower the tunnel near the 72nd Street and 86th Street stations, dated September 2008; Technical Memorandum No. 5 assessing design change to Lexington Avenue/63rd Street Station entrances, dated April 2010; and Technical Memorandum No. 6 evaluation of 69th Street ancillary facility, dated September 2010.

6. Project name and location: East Side Access, New York, NY. Project sponsor: Metropolitan Transportation Authority. Project description: The East Side Access project will connect the Long Island Rail Road's (LIRR) Main and Port Washington lines in Queens to a new LIRR terminal beneath Grand Central Terminal in Manhattan. Various project changes have been evaluated in three technical memorandums. Final agency actions: FTA determination in each case that neither a Supplemental Environmental Impact Statement nor a Supplemental Environmental Assessment is necessary. Supporting documentation: Technical Memorandum No. 2 assessing design changes to track configuration at Sunnyside Yard, addition of a new 43rd Street substation, and design changes to tracks at Harold Interlocking and substation, dated April 2006; Technical Memorandum No. 3 assessing refinements to tail track and associated ventilation plenum near East 37th Street, Manhattan, dated July 2008; and Technical Memorandum No. 4 assessing design changes to East Side Access LIRR concourse, construction near 37th Street, and the elimination of three East Side Access LIRR street entrances at 44th Street, 45th Street, and 48th Street, Manhattan, dated March 2010.

Issued on: November 12, 2010.
Susan Borinsky,
Associate Administrator for Planning and Environment, Washington, DC.

[FR Doc. 2010-29290 Filed 11-19-10; 8:45 am]

BILLING CODE 4910-57-P